SECURITIES AND EXCHANGE COMMISSION

[Release No. IC-27467]

Notice of Applications for Deregistration Under Section 8(f) of the Investment Company Act of 1940

August 25, 2006.

The following is a notice of applications for deregistration under section 8(f) of the Investment Company Act of 1940 for the month of August, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on September 19, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Lebenthal Funds, Inc. [File No. 811-6170]

Summary: Applicant seeks an order declaring that it has ceased to be an investment company. On May 1, 2006, applicant transferred its assets to corresponding series of Merrill Lynch Multi-State Municipal Series Trust, based on net asset value. Expenses of $487,358 incurred in connection with the reorganization were paid by Fund Asset Management, L.P., applicant's investment adviser.

Filing Date: The application was filed on July 26, 2006.

Applicant's Address: Merrill Lynch Investment Management, L.P., 800 Scudders Mill Rd., Plainsboro, NJ 08536.

Oppenheimer International Large Cap Core Trust [File No. 811-21370]

Summary: Applicant seeks an order declaring that it has ceased to be an investment company. On April 13, 2006, applicant made a liquidating distribution to its shareholders, based on net asset value. Expenses of approximately $20,499 incurred in connection with the liquidation were paid by applicant.

Filing Dates: The application was filed on April 21, 2006, and amended on August 16, 2006.

Applicant's Address: 6803 Tucson Way, Centennial, CO 80112.

MurphyMorris Investment Trust [File No. 811-21444]

Summary: Applicant seeks an order declaring that it has ceased to be an investment company. On June 1, 2005, applicant transferred its assets to PMFM Core Advantage Portfolio Trust, a series of PMFM Investment Trust, based on net asset value. Expenses of approximately $30,800 incurred in connection with the reorganization were paid by MuphyMorris Money Management Co., applicant's investment adviser.

Filing Dates: The application was filed on April 26, 2006, and amended on August 17, 2006.

Applicant's Address: 1551 Jennings Mill Rd., Suite 2400A, Bogart, GA 30622.

Columbia Short Term Bond Fund, Inc. [File No. 811-4842]; Columbia Fixed Income Securities Fund, Inc. [File No. 811-3581]

Summary: Each applicant seeks an order declaring that it has ceased to be an investment company. On September 23, 2005 and October 7, 2005, respectively, each applicant transferred its assets to a corresponding series of Columbia Funds Series Trust, based on net asset value. Expenses of approximately $90,526 and $109,747, respectively, incurred in connection with the reorganizations were paid by applicants and Columbia Management Advisors, LLC, applicants' investment adviser.

Filing Date: The applications were filed on June 23, 2006.

Applicants' Address: 1301 SW. Fifth Ave., Portland, OR 97201.

Columbia International Stock Fund, Inc. [File No. 811-7024]

Summary: Applicant seeks an order declaring that it has ceased to be an investment company. On October 10, 2005, applicant transferred its assets to a corresponding series of Columbia Funds Series Trust I, based on net asset value. Expenses of approximately $19,103 incurred in connection with the reorganization were paid by Columbia Management Advisors, LLC, applicant's investment adviser.

Filing Dates: The application was filed on June 23, 2006, and amended on July 17, 2006.

Applicant's Address: 1301 SW Fifth Ave., Portland, OR 97201.

Columbia Funds Trust I [File No. 811-2214]

Summary: Applicant seeks an order declaring that it has ceased to be an investment company. On March 27, 2006, applicant transferred its assets to a corresponding series of Columbia Funds Series Trust I, based on net asset value. Expenses of approximately $114,620 incurred in connection with the reorganization were paid by Columbia Management Advisors, LLC, applicant's investment adviser.

Filing Date: The application was filed on June 23, 2006.

Applicant's Address: One Financial Center, Boston, MA 02111.

Meeder Advisor Funds [File No. 811-6720]

Summary: Applicant seeks an order declaring that it has ceased to be an investment company. On December 27, 2004, applicant made a liquidating distribution to its shareholders, based on net asset value. Expenses of less than $100 incurred in connection with the liquidation were paid by applicant. A notice of the filing of the application, which contained certain erroneous information, was previously issued on June 30, 2006 (Investment Company Act Release No. 27418).

Filing Dates: The application was filed on July 8, 2004, and amended on June 13, 2006 and August 21, 2006.

Applicant's Address: 6125 Memorial Dr., Dublin, OH 43017.

For the Commission, by the Division of Investment Management, pursuant to delegated authority.
Nancy M. Morris,
Secretary.

[FR Doc. E6-14500 Filed 8-30-06; 8:45 am]

BILLING CODE 8010-01-P